DEPARTMENT OF TRANSPORTATION

Surface Transportation Board

[STB Finance Docket No. 35183]

Genesee & Wyoming Inc.—Control Exemption—Georgia Southwestern Railroad, Inc.

AGENCY: Surface Transportation Board.

ACTION: Notice of Exemption.

SUMMARY: The Board grants an exemption, under 49 U.S.C. 10502, from the prior approval requirements of 49 U.S.C. 11323-25 for Genesee & Wyoming Inc. (GWI), a noncarrier, to acquire indirect control of Georgia Southwestern Railroad, Inc. (GSWR), subject to labor protective conditions. Pursuant to the Stock Purchase Agreement entered into by and among GSW Acquisition Sub Inc. (GSW Sub), GWI, Terry R. Small, and David L. Smoot, GSW Sub will acquire direct control of GSWR, and because GSW Sub is a wholly owned direct subsidiary of GWI, GWI will acquire indirect control of GSWR. GWI is a holding company that directly or indirectly controls one Class II rail carrier, 28 Class III railroads,¹ two limited liability companies, and additional railroads with two wholly owned subsidiaries that are noncarrier holding companies.

¹ On October 1, 2008, GWI filed a petition for exemption under 49 U.S.C. 10502 from the prior approval requirements of 49 U.S.C. 11323-25, in STB Finance Docket No. 35177, Genesee & Wyoming Inc.—Control Exemption—Aliquippa & Ohio River Railroad Co., et al., to acquire control of Summit View, Inc. (Summit View), a noncarrier, and thereby acquire control of 10 additional Class III railroads that are controlled by Summit View.

DATES: This exemption will be effective on January 14, 2009. Petitions to stay must be filed by December 26, 2008. Petitions to reopen must be filed by January 5, 2009.

ADDRESSES: Send an original and 10 copies of all pleadings, referring to STB Finance Docket No. 35183, to: Surface Transportation Board, 395 E Street, S.W., Washington, DC 20423-0001. In addition, send one copy of pleadings to Kevin M. Sheys, K&L Gates LLP, 1601 K Street, NW., Washington, DC 20006.

FOR FURTHER INFORMATION CONTACT: Melissa Ziembicki, (202) 245-0386 [Assistance for the hearing impaired is available through the Federal Information Relay Service (FIRS) at 1-800-877-8339].

SUPPLEMENTARY INFORMATION: Additional information is contained in the Board's decision. Board decisions and notices are available on our Web site at “http://www.stb.dot.gov.”

Decided: December 9, 2008.
By the Board, Chairman Nottingham, Vice Chairman Mulvey, and Commissioner Buttrey.
Jeffrey Herzig,
Clearance Clerk.

[FR Doc. E8-29561 Filed 12-12-08; 8:45 am]

BILLING CODE 4915-01-P